DEPARTMENT OF HOMELAND SECURITY

Office of the Secretary

Privacy Act of 1974; Retirement of System of Records

AGENCY: Privacy Office, DHS.

ACTION: Notice of the retirement of one Privacy Act system of records notice.

SUMMARY: In accordance with the Privacy Act of 1974, the Department of Homeland Security is giving notice that it proposes to retire the following Privacy Act systems of records notice, FEMA/OC-1 Travel and Transportation Accounting (55 FR 37182 September 7, 1990), from its inventory of record systems and rely upon the Government-wide system of records notice issued by the General Services Administration, GSA/GOVT-4 (Contracted Travel Service Program (50 FR 20294 April 15, 1985), which is written to cover all Federal travel service programs.

DATES: These changes will take effect on October 30, 2008.

FOR FURTHER INFORMATION CONTACT: Hugo Teufel III, Chief Privacy Officer, Department of Homeland Security, Washington, DC 20528, by telephone (703) 235-0780 or facsimile (703) 235-0442.

SUPPLEMENTARY INFORMATION: Pursuant to the provisions of the Privacy Act of 1974, 5 U.S.C. 552a, and as part of its ongoing integration and management efforts, the Department of Homeland Security (DHS) is retiring the system of records notice, FEMA/OC-1 Travel and Transportation Accounting (55 FR 37182 September 7, 1990), that was issued by the Federal Emergency Management Agency (FEMA) prior to the creation of DHS.

DHS will continue to collect and maintain records regarding individuals who use the Department's travel and transportation resources and will rely upon the existing Federal Government-wide system of records titled GSA/GOVT-4 (Contracted Travel Service Program (50 FR 20294 April 15, 1985), which is written to cover all Federal travel service programs.

Eliminating this notice will have no adverse impacts on individuals, but will promote the overall streamlining and management of DHS Privacy Act record systems.

Dated: September 24, 2008.
Hugo Teufel III,
Chief Privacy Officer, Department of Homeland Security.

[FR Doc. E8-23000 Filed 9-29-08; 8:45 am]

BILLING CODE 4410-10-P